DEPARTMENT OF TRANSPORTATION

Maritime Administration

[Docket No. MARAD-2025-0096]

Deepwater Port License Application: ST LNG Deepwater Port Development Project

AGENCY: Maritime Administration, Department of Transportation.

ACTION: Notice of intent; notice of public meeting; request for comments.

SUMMARY: The U.S. Coast Guard (USCG), in coordination with the Maritime Administration (MARAD), will prepare an environmental impact statement (EIS) as part of the environmental review of the ST LNG, LLC (ST LNG or Applicant) deepwater port license application. The application proposes the ownership, construction, operation, and eventual decommissioning of an offshore natural gas export deepwater port, known as the ST LNG Deepwater Port Development Project, which would be in Federal waters approximately 10.4 nautical miles (19.2 kilometers) offshore Matagorda, Texas in water depths of approximately 65 to 75 feet (20 to 22 meters). The deepwater port would allow for the loading of liquefied natural gas (LNG) trading carriers.

This Notice of Intent (NOI) requests public participation in the scoping process, provides information on how to participate, and announces an informational open house and public meeting. Pursuant to the criteria provided in the Deepwater Port Act of 1974 (DWPA), as amended, Texas is the designated Adjacent Coastal State (ACS) for this application.

DATES: Comments must be received on or before August 14, 2025. MARAD and USCG will hold one in-person public meeting in connection with scoping for the ST LNG Deepwater Port Development Project.

The public meeting will be held on Thursday, July 31, 2025, at Bay City Civic Center, 201 7th Street, Bay City, Texas 77414, from 6:00 p.m. to 8:00 p.m. Central Daylight Time (CDT). The public meeting will be preceded by an open house from 5:00 p.m. to 6:00 p.m. CDT. The public meeting may end later than the stated time, depending on the number of persons who wish to make a comment on the record.

Additionally, materials submitted in response to this request for comments on the ST LNG Deepwater Port Development Project license application must be submitted to the www.regulations.gov website or the Federal Docket Management Facility as detailed in the ADDRESSES section below by the close of the comment period.

ADDRESSES: You may submit comments identified by DOT Docket Number MARAD-2025-0096 by any one of the following methods:

• Federal eRulemaking Portal: Go to http://www.regulations.gov. Search MARAD-2025-0096 and follow the instructions for submitting comments.

• Mail or Hand Delivery: The Docket Management Facility is located at the U.S. Department of Transportation, 1200 New Jersey Avenue SE, West Building, Room W12-140, Washington, DC 20590. Documents may be delivered between 9:00 a.m. and 5:00 p.m., Monday through Friday, except on Federal holidays.

Note: If you mail or hand-deliver your comments, we recommend that you include your name and a mailing address, an email address, and/or a telephone number in a cover page so that we can contact you if we have questions regarding your submission.

Instructions: All submissions received must include the agency name and specific docket number. All comments received will be posted without change to the docket at www.regulations.gov, including any personal information provided.

Privacy Act: Anyone can search the electronic form of all comments received into any of our dockets by the name of the individual submitting the comment (or signing the comment, if submitted on behalf of an association, business, labor union, etc.). For information on DOT's compliance with the Privacy Act, please visit https://www.transportation.gov/privacy.

FOR FURTHER INFORMATION CONTACT: Mr. Brian Barton, Maritime Administration, telephone 202-366-0302, email: Brian.Barton@dot.gov, or Mr. Patrick Clark, USCG, telephone 202-372-1427, email: Patrick.W.Clark@uscg.mil. For questions regarding viewing the Docket, call Docket Operations, telephone: 202-366-9826.

SUPPLEMENTARY INFORMATION:

Public Meeting and Open House

We encourage you to attend the informational open house and public meeting to learn about, and comment on, the proposed deepwater port. You will have the opportunity to submit comments on the scope and significance of the issues related to the proposed deepwater port that should be addressed in the EIS.

Speakers at the public meeting will be recognized in the following order: elected officials, public agencies, individuals, or groups in the sign-up order, and then anyone else who wishes to speak.

To allow everyone a chance to speak at the public meeting, we may limit speaker time, extend the meeting hours, or both. You must identify yourself, and any organization you represent, by name. Your remarks will be recorded for inclusion in the public docket.

You may submit written material through the docket submission process either in place of, or in addition to, speaking. Written material should include your name and address and will be included in the public docket. Public docket materials will be made available to the public on the Federal Docket Management Facility website (see ADDRESSES).

If you plan to participate in the open house or public meeting and need special assistance such as sign language interpretation, non-English language translator services or other reasonable accommodation, please notify MARAD or USCG (see FOR FURTHER INFORMATION CONTACT) at least five business days in advance of the public meeting. Include your contact information as well as information about your specific needs.

Request for Comments

We request public comment on this proposal. The comments may relate to, but are not limited to, the environmental impact of the proposed action, reasonable alternatives, and relevant information, studies, or analyses with respect to the proposed action. All comments will be accepted. The public meeting is not the only opportunity you have to comment on the ST LNG Deepwater Port Development Project license application. You may also submit comments directly to the Federal Docket Management Facility during the public comment period (see DATES). We will consider all substantive comments and material received during the 30-day scoping period.

The license application, all comments, and associated documentation are available for viewing at the Federal Docket Management System (FDMS) website: http://www.regulations.gov identified by the DOT Docket Number listed above.

Background

Information about deepwater ports, the statutes, and regulations governing their licensing, including the application review process, and the receipt of the current application for the proposed ST LNG Deepwater Port Development Project appears in the ST LNG Notice of Application, published in the July 7, 2025, edition of the Federal Register. The “Summary of the Application” from that publication is reprinted below for your convenience. Consideration of a deepwater port license application includes review of the proposed deepwater port's impact on the natural and human environment. For the proposed deepwater port, MARAD and USCG have determined that such review must include preparation of an EIS. This NOI briefly describes the proposed action, reasonable alternatives, and the agencies' proposed scoping process. You can address any questions about the proposed action, the scoping process, or the EIS to the MARAD or USCG project managers identified in this notice (see FOR FURTHER INFORMATION CONTACT).

MARAD and USCG will work in cooperation with other involved federal agencies and departments. The U.S. Environmental Protection Agency, U.S. Army Corps of Engineers, U.S. Department of the Interior, U.S. Fish and Wildlife Service, National Oceanic and Atmospheric Administration, Bureau of Ocean Energy Management, Bureau of Safety and Environmental Enforcement, and the Pipeline and Hazardous Materials Safety Administration, among others, participate in reviewing and processing deepwater port license applications and assist in the NEPA process.

Summary of the Application

The application proposes the ownership, construction, operation, and eventual decommissioning of the ST LNG deepwater port terminal to be located approximately 10.4 nautical miles (19.2 kilometers) offshore Matagorda, Texas. When fully realized, the project would involve four 2.1 million tonnes per annum (MTPA) liquefaction systems installed in the Brazos Outer Continental Shelf Lease Block 476 (BA-476), in approximately 65 to 72 feet of water. The proposed ST LNG deepwater port would export LNG up to 8.4 MTPA.

The proposed ST LNG deepwater port would consist of fixed and floating components. These components would include a 5.5-mile 30-inch pipeline lateral with a connection hub, four feeder lines to the connection hub, four gas treatment platforms, four liquefaction platforms, four accommodation and utility platforms, four LNG transfer platforms, thirty-six mooring dolphins, four converted LNG carriers, and three tugs.

The LNG would be loaded onto standard LNG carriers with cargo capacities between 125,000 and 180,000 cubic meters (m³) (average expected size is 146,000 m³) for the export of LNG, including to Free Trade Agreement (FTA) and non-FTA nations.

The project would be completed in four phases. Phase 1 construction would include three large platforms (a gas treatment platform, an LNG liquefaction platform, and an accommodations and utility platform), one LNG transfer platform, nine mooring dolphins, one floating storage unit (FSU), and interconnected lateral pipelines. Each phase would produce 2.1 MTPA of LNG.

The feed gas supply to the project would originate from the Tres Palacios Natural Gas Storage and Trading Hub and the Williams Markham Gas Processing Plant in Texas through the existing Transco 30-inch pipeline. The gas would be transported to the project via a new 5.5-mile 30-inch lateral pipeline to an interconnection hub at the deepwater port. From the hub, four feeder lines would transport the gas to each phase of the deepwater port.

For more information, please contact either Mr. Brian Barton, MARAD, or Mr. Patrick Clark, USCG, as listed in the FOR FURTHER INFORMATION CONTACT section of this document.

Purpose and Need

The purpose of the ST LNG Deepwater Port (DWP) is to provide a safe, effective, and reliable facility to liquefy natural gas for the export of LNG, including to FTA and non-FTA nations.

The need for U.S. LNG exports to supply global markets is presently high and expected to continue to rise for the foreseeable future. In the Energy Information Administration's 2023 Annual Energy Outlook, the reference case predicts that growing international demand coupled with falling U.S. domestic natural gas consumption will cause domestic LNG exports to more than double by 2040. Similarly, the International Energy Agency's 2022 World Energy Outlook reports that, under currently stated energy policies, LNG export capacity beyond that which exists or is under construction will be required in the next 10 to 15 years.

Proposed Action and Reasonable Alternatives

The proposed action requiring environmental review is the Federal licensing of the proposed deepwater port described in “Summary of the Application” above. The alternatives to licensing the proposed deepwater port are: (1) licensing with conditions (including conditions designed to mitigate environmental impacts); (2) evaluation of the proposed deepwater port and onshore site/pipeline route alternatives; or (3) denying the application, which for purposes of environmental review is the “no-action” alternative.

Project Schedule

The DWPA at 33 U.S.C. 1504(g) requires that a final public hearing be held no later than 240 days after the publication of the Notice of Application (NOA) in the Federal Register. The NOA was published on July 7, 2025 (see Federal Register/Vol. 90, No. 127/Monday, July 7, 2025). The DWPA at 33 U.S.C. 1508(b)(1)(C), gives the Governor of the ACS, for this application Texas, 45 days after the final public hearing to approve, approve with conditions, or disapprove the deepwater port license application. Finally, in accordance with the DWPA at 33 U.S.C. 1504(i)(1), MARAD will issue a Record of Decision 90 days after the final public hearing. The environmental review for the proposed action is anticipated to be completed prior to the final public hearing.

The Project Schedule can be found in the Applicant's deepwater port license application at Volume II, Figure 1.6-1 “Project Schedule.”

List of Permits and Approvals

The list of anticipated permits and approvals for the project can be found in the Applicant's deepwater port license application at Volume II, Appendix C, “List of Permits and Approvals.”

• USCG—Approves Port Operations Manual; oversees post‐licensing design, construction, and operations approval; and certifies that navigational aids for the deepwater port meet the applicable requirements.

• U.S. Fish and Wildlife Service—Issues concurrence with, or a Biological Opinion on, MARAD's effect determinations for threatened and endangered species and designated critical habitat; issues a Letter of Authorization or Incidental Harassment Authorization for the take of listed species; and issues a Depredation Permit under the Migratory Bird Treaty Act, if necessary.

• U.S. Environmental Protection Agency—Issues Clean Water Act (CWA) National Pollutant Discharge Elimination System (NPDES) permit to discharge process wastewater, including hydrostatic test water for the deepwater port; issues the Clean Air Act (CAA) Title V Operating permit for the deepwater port, if necessary; and issues the CAA Prevention of Significant Deterioration Air permit for the deepwater port, if necessary.

• National Marine Fisheries Service (NOAA Fisheries)—Issues concurrence with, or a Biological Opinion on, MARAD's effect determinations for threatened and endangered species and designated critical habitat; issues concurrence with MARAD's effect determination for essential fish habitats; and issues a Letter of Authorization or Incidental Harassment Authorization for the take of listed species.

• U.S. Army Corps of Engineers—Issues the CWA Section 404 permit; and issues the Rivers and Harbors Act Section 10 authorization to prevent obstructions to navigation in navigable waters of the United States, including infrastructure located on the seabed to the seaward limit of the Outer Continental Shelf.

• Governor of Texas—The governor of the ACS must approve, approve with conditions, or disapprove the application within 45 days of the final public hearing.

• Texas Historical Commission—Issues the National Historic Preservation Act Section 106 concurrence with MARAD's effect determination for historic properties and cultural resources.

• Texas General Land Office—Issues a Coastal Zone Management Act (CZMA) Consistency Certification and CZMA Consistency Approval.

Summary of Potential Impacts

It is anticipated that the proposed project may result in impacts to the following resource categories: water quality; marine environment; commercial and recreational fisheries; wildlife and protected species; cultural resources; socioeconomics; geological resources; visual resources; air quality; noise and vibration; and safety and security. A detailed discussion of potential impacts can be found in Volume II of the Applicant's deepwater port license application.

Scoping Process

Public scoping is an early and open process for identifying and determining the scope of issues to be addressed in the EIS. Scoping begins with this NOI, continues through the public comment period (see Dates), and ends when USCG and MARAD have completed the following actions:

• Invited the participation of federal, state, and local agencies, any affected Indian tribe, the Applicant, and other interested persons;

• Considered public comment on alternatives, impacts, and related information, studies, or analyses with respect to the proposed agency action;

• Identified and eliminated from detailed study those issues that are not significant or that have been covered elsewhere;

• Identified other relevant permitting, environmental review, and consultation requirements; and

• Indicated the relationship between timing of the environmental review and other aspects of the application process.

Once the scoping process is complete, USCG, MARAD, and other appropriate cooperating agencies will consider the comments received and prepare an EIS. We will announce the availability of the EIS when it is published. The DWPA requires a final public hearing be held in the ACS. The purpose of the final public hearing is to receive comments on matters related to whether the deepwater port license application should be approved by the Maritime Administrator.

(Authority: 33 U.S.C. 1501, et seq., 49 CFR 1.93).

By Order of the Maritime Administration.
Gabriel Chavez,
Acting Secretary, Maritime Administration.

[FR Doc. 2025-13224 Filed 7-14-25; 8:45 am]

BILLING CODE 4910-81-P